Executive Order 14011 of February 2, 2021

Establishment of Interagency Task Force on the Reunification of Families

By the authority vested in me as President by the Constitution and the laws of the United States of America, and in order to reunite children separated from their families at the United States-Mexico border, it is hereby ordered as follows:

Section 1. Policy. It is the policy of my Administration to respect and value the integrity of families seeking to enter the United States. My Administration condemns the human tragedy that occurred when our immigration laws were used to intentionally separate children from their parents or legal guardians (families), including through the use of the Zero-Tolerance Policy. My Administration will protect family unity and ensure that children entering the United States are not separated from their families, except in the most extreme circumstances where a separation is clearly necessary for the safety and well-being of the child or is required by law.

Sec. 2. Establishment. There is hereby established an Interagency Task Force on the Reunification of Families (Task Force).

Sec. 3. Membership. (a) The Task Force shall include the following members or their designees:

(i) the Secretary of Homeland Security, who shall serve as Chair;

(ii) the Secretary of State, who shall serve as a Vice Chair;

(iii) the Secretary of Health and Human Services, who shall serve as a Vice Chair;

(iv) the Attorney General;

(v) such other officers or employees of the Departments of State, Justice, Health and Human Services, and Homeland Security, as the head of each respective department may designate; and

(vi) such other officers or employees of executive departments and agencies (agencies) as the Chair or Vice Chairs may invite to participate, with the concurrence of the head of the agency concerned.

(b) The Chair shall convene and preside at meetings of the Task Force. The Chair, in consultation with the Vice Chairs, shall direct its work and, as appropriate, establish and direct subgroups of the Task Force.

Sec. 4. Functions. The Task Force shall, consistent with applicable law, perform the following functions:

(a) Identifying all children who were separated from their families at the United States-Mexico border between January 20, 2017, and January 20, 2021, in connection with the operation of the Zero-Tolerance Policy;

(b) To the greatest extent possible, facilitating and enabling the reunification of each of the identified children with their families by:

(i) providing recommendations to heads of agencies concerning the exercise of any agency authorities necessary to reunite the children with their families, including:

(A) recommendations regarding the possible exercise of parole under section 212(d)(5)(A) of the Immigration and Nationality Act of 1952, as amended (8 U.S.C. 1182(d)(5)(A)), or the issuance of visas or other immigration benefits, as appropriate and consistent with applicable law;

(B) recommendations regarding the provision of additional services and support to the children and their families, including trauma and mental health services; and

(C) recommendations regarding reunification of any additional family members of the children who were separated, such as siblings, where there is a compelling humanitarian interest in doing so;

(ii) providing recommendations to the President concerning the exercise of any Presidential authorities necessary to reunite the children with their families, as appropriate and consistent with applicable law; and

(iii) for purposes of developing the recommendations described in this subsection, and in particular with respect to recommendations regarding the manner and location of reunification, consulting with the children, their families, representatives of the children and their families, and other stakeholders, and considering the families' preferences and parental rights as well as the children's well-being; and

(c) Providing regular reports to the President, including:

(i) an initial progress report no later than 120 days after the date of this order;

(ii) interim progress reports every 60 days thereafter;

(iii) a report containing recommendations to ensure that the Federal Government will not repeat the policies and practices leading to the separation of families at the border, no later than 1 year after the date of this order; and

(iv) a final report when the Task Force has completed its mission.

Sec. 5. Task Force Administration. (a) To the extent permitted by law, and subject to the availability of appropriations, the Department of Homeland Security shall provide the funding and administrative support the Task Force needs to implement this order, as determined by the Secretary of Homeland Security.

(b) To the extent permitted by law, including the Economy Act (31 U.S.C. 1535), and subject to the availability of appropriations, additional agencies represented on the Task Force may detail staff to the Task Force, or otherwise provide administrative support, as necessary to implement this order, as determined by the respective heads of agencies.

(c) The Task Force shall coordinate, as appropriate and consistent with applicable law, with relevant stakeholders, including domestic and international non-governmental organizations, and representatives of the children and their families.

(d) The Task Force, at the direction of the Chair, may hold public meetings and engagement sessions as necessary to carry out its mission.

(e) The Task Force shall terminate 30 days after it provides its final report to the President under section 4(c)(iv) of this order.

Sec. 6. Revocation of Executive Order 13841. Executive Order 13841 of June 20, 2018 (Affording Congress an Opportunity To Address Family Separation), is hereby revoked.

Sec. 7. Definitions. For purposes of this order:

(a) The term “children” includes all persons who were under the age of 18 at the time they were separated from their families at the border.

(b) The term “Zero-Tolerance Policy” means the policy discussed in the Attorney General's memorandum of April 6, 2018, entitled, “Zero-Tolerance for Offenses Under 8 U.S.C. 1325(a),” and any other related policy, program, practice, or initiative resulting in the separation of children from their families at the United States-Mexico border.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 2, 2021.

[FR Doc. 2021-02562

Filed 2-4-21; 8:45 am]

Billing code 3295-F1-P